DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR Part 67. FEMA has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR Part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR Part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding Source(s) | Location of Referenced Elevation** | * Elevation in feet (NGVD) + Elevation in feet (NAVD) # Depth in feet above ground ‸ Elevation in meters (MSL) Effective Modified | Communities affected
Volusia County, Florida, and Incorporated Areas
Docket No.: FEMA-B-1221
B-19 Canal | At the Spruce Creek confluence | +5 | City of Daytona Beach, City of Port Orange, Unincorporated Areas of Volusia County.
| Approximately 375 feet upstream of Beville Road | +29
B-27 Canal North | At the LPGA Canal confluence | +5 | City of Holly Hill, Unincorporated Areas of Volusia County.
| Approximately 75 feet upstream of Calle Grande Street | +5
B-27 Canal South | At the LPGA Canal confluence | +5 | City of Daytona Beach, City of Holly Hill.
| Approximately 70 feet upstream of Kingston Avenue | +6
Halifax Canal | Approximately 700 feet upstream of Powers Avenue | +6 | City of Port Orange.
| Approximately 100 feet upstream of Jackson Street | +7
LPGA Canal | At the upstream side of Ridgewood Avenue | +4 | City of Holly Hill.
| Approximately 1,940 feet upstream of Center Avenue | +7
Laurel Creek | At the upstream side of the railroad | +6 | City of Ormond Beach.
| Approximately 330 feet upstream of Laurel Oaks Circle | +7
Nova Canal North Reach 1 | Approximately 775 feet downstream of LPGA Boulevard | +7 | City of Holly Hill, Unincorporated Areas of Volusia County.
| At the upstream side of Alabama Avenue | +7
Nova Canal North Reach 2 | Approximately 1,660 feet downstream of 10th Street | +7 | City of Daytona Beach, City of Holly Hill.
| Approximately 925 feet upstream of Orange Avenue | +8
Nova Canal South Reach 1 | Approximately 125 feet downstream of Reed Canal Road | +7 | City of Daytona Beach, City of South Daytona.
| At the Nova Canal North Reach 2 confluence | +8
Nova Canal South Reach 2 | Approximately 1,775 feet upstream of Nova Road | +7 | City of Port Orange, City of South Daytona.
| At the Nova Canal South Reach 1 confluence | +7
Thompson Creek | At the upstream side of Industrial Drive | +7 | City of Ormond Beach.
| Approximately 575 feet upstream of Division Avenue | +8
* National Geodetic Vertical Datum.
+ North American Vertical Datum.
# Depth in feet above ground.
‸ Mean Sea Level, rounded to the nearest 0.1 meter.
ADDRESSES
City of Daytona Beach
Maps are available for inspection at 950 Bellevue Avenue, Room 600, Daytona Beach, FL 32115.
City of Holly Hill
Maps are available for inspection at 1065 Ridgewood Avenue, Holly Hill, FL 32117.
City of Ormond Beach
Maps are available for inspection at 22 South Beach Street, Ormond Beach, FL 32174.
City of Port Orange
Maps are available for inspection at 1000 City Center Circle, Port Orange, FL 32129.
City of South Daytona
Maps are available for inspection at 1672 South Ridgewood Avenue, South Daytona, FL 32119.
Unincorporated Areas of Volusia County
Maps are available for inspection at 123 West Indiana Avenue, DeLand, FL 32720.
Erie County, Pennsylvania (All Jurisdictions)
Docket No.: FEMA-B-1104
Fourmile Creek | Approximately 735 feet downstream of Access Road | +577 | Township of Harborcreek, Township of Lawrence Park.
| Approximately 745 feet downstream of Buffalo Road | +688
| Approximately 485 feet downstream of Buffalo Road | +693
| Approximately 400 feet upstream of Mindi Court | +770
Lake Erie | Entire coastline in the Commonwealth of Pennsylvania | +577 | Borough of Lake City, Township of Girard, Township of Harborcreek, Township of North East.
* National Geodetic Vertical Datum.
+ North American Vertical Datum.
# Depth in feet above ground.
‸ Mean Sea Level, rounded to the nearest 0.1 meter.
ADDRESSES
Borough of Lake City
Maps are available for inspection at the Municipal Building, 2350 Main Street, Lake City, PA 16423.
Township of Girard
Maps are available for inspection at the Municipal Building, 10140 West Ridge Road, Girard, PA 16417.
Township of Harborcreek
Maps are available for inspection at the Township Building, 5601 Buffalo Road, Harborcreek, PA 16421.
Township of Lawrence Park
Maps are available for inspection at the Lawrence Park Township Office, 4230 Iroquois Avenue, Erie, PA 16511.
Township of North East
Maps are available for inspection at the Township Main Office, 1300 West Main Road, North East, PA 16428.

(Catalog of Federal Domestic Assistance No. 97.022, “Flood Insurance.”)

Dated: December 18, 2013.
Roy E. Wright,
Deputy Associate Administrator for Mitigation, Department of Homeland Security, Federal Emergency Management Agency.

[FR Doc. 2014-01376 Filed 1-23-14; 8:45 am]

BILLING CODE 9110-12-P